FINANCIAL STABILITY OVERSIGHT COUNCIL

12 CFR Part 1310

[Docket No. FSOC-2023-0002]

Authority To Require Supervision and Regulation of Certain Nonbank Financial Companies

AGENCY: Financial Stability Oversight Council

ACTION: Proposed interpretive guidance; extension of comment period.

SUMMARY: The Financial Stability Oversight Council (Council) is extending by 30 days the comment period on its proposed interpretive guidance, which would replace the Council's existing interpretive guidance on nonbank financial company determinations and which describes the process the Council intends to take in determining whether to subject a nonbank financial company to supervision and prudential standards by the Board of Governors of the Federal Reserve System. The comment period will now close on July 27, 2023.

DATES: Comment due date: July 27, 2023.

ADDRESSES: You may submit comments by either of the following methods. All submissions must refer to the document title and docket number FSOC-2023-0002.

Electronic Submission of Comments: You may submit comments electronically through the Federal eRulemaking Portal at https://www.regulations.gov. Electronic submission of comments allows the commenter maximum time to prepare and submit a comment, ensures timely receipt, and enables the Council to make them available to the public. Comments submitted electronically through the https://www.regulations.gov website can be viewed by other commenters and interested members of the public. Commenters should follow the instructions provided on that site to submit comments electronically.

Mail: Send comments to Financial Stability Oversight Council, Attn: Eric Froman, 1500 Pennsylvania Avenue NW, Room 2308, Washington, DC 20220.

All properly submitted comments will be available for inspection and downloading at https://www.regulations.gov.

In general, comments received, including attachments and other supporting materials, are part of the public record and are available to the public. Do not submit any information in your comment or supporting materials that you consider confidential or inappropriate for public disclosure.

FOR FURTHER INFORMATION CONTACT: Eric Froman, Office of the General Counsel, Treasury, at (202) 622-1942; Devin Mauney, Office of the General Counsel, Treasury, at (202) 622-2537; or Carol Rodrigues, Office of the General Counsel, Treasury, at (202) 622-6127.

SUPPLEMENTARY INFORMATION: On April 28, 2023, at 88 FR 26234 the Council published in the Federal Register proposed interpretive guidance describing the process the Council intends to take in determining whether to subject a nonbank financial company to supervision and prudential standards by the Board of Governors of the Federal Reserve System (Proposed Guidance). Comments on the Proposed Guidance were originally due on June 27, 2023.

The Council has received a request to extend the comment period to allow interested parties additional time to review and comment on the Proposed Guidance. The Council is therefore extending the comment period on the Proposed Guidance by 30 days to July 27, 2023.

Dated: June 22, 2023.
Sandra Lee,
Deputy Assistant Secretary, Financial Stability Oversight Council.

[FR Doc. 2023-13648 Filed 6-26-23; 8:45 am]

BILLING CODE 4810-AK-P-P